DEPARTMENT OF THE INTERIOR

Bureau of Land Management

[WO-220-07-1020-JA-VEIS]

Notice of Availability of Final Programmatic Environmental Impact Statement and Environmental Report for Vegetation Treatments on Public Lands Administered by the Bureau of Land Management in the Western United States, Including Alaska

AGENCY: Bureau of Land Management, Interior.

ACTION: Notice of Availability.

SUMMARY: Pursuant to Section 102(2)(C) of the National Environmental Policy Act of 1969 (NEPA), the Bureau of Land Management (BLM) hereby gives notice that the Final Programmatic Environmental Impact Statement and Final Environmental Report on vegetation treatments involving the use of chemical herbicides and other methods on the public lands administered by 11 BLM State offices in 17 western States, including Alaska, is available for public review and comment. The BLM is the lead Federal agency for the preparation of this Final Programmatic EIS in compliance with the requirements of NEPA. If it is approved, the BLM would:

1. Approve the use of four new herbicide formulations on public lands.

2. Decide which of 20 currently approved herbicides will continue to be used on public lands.

3. Decide on a protocol to follow that adds new EPA-registered chemical formulations to the BLM list of approved herbicides.

4. Identify which best management practices should be used with all applications of herbicide and other types of vegetation treatment methods (mechanical, fire, biological, etc).

DATES: The document will be available for July 30, 2007.

ADDRESSES: The Final Programmatic EIS and associated documents will be available for review in either hard copy or on compact disks (CDs) at all BLM State, District, and Field Office public rooms. The entire document can also be reviewed or downloaded at the BLM National Web site http://www.blm.gov. Written comments should be sent to Project Manager, National Vegetation EIS, BLM Nevada State Office, P.O. Box 12000, Reno, NV 89520-0006. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Brian Amme, Project Manager at (775) 861-6645 or e-mail: brian_amme@blm.gov.

SUPPLEMENTARY INFORMATION: This Final Programmatic EIS provides a comprehensive analysis of the BLM's use of chemical herbicides in its various vegetation treatment programs related to hazardous fuels reduction, invasive terrestrial and aquatic plant species management, noxious weeds, and resource rehabilitation following catastrophic fires, and other disturbances.

In addition, an accompanying environmental report for vegetation provides an assessment of the expected effects of the use of herbicides, in addition to other vegetation treatment methods (fire, mechanical, manual, and biological) on up to approximately 5,030,000 acres of public lands per year. Together, these documents:

• Consider reasonably foreseeable activities, particularly hazardous fuels reduction treatments, emergency stabilization and rehabilitation efforts, noxious weeds, and invasive terrestrial plant species management.

• Address human health and ecological risk for proposed use of chemical herbicides on public lands.

• Provide a cumulative impact analysis for the use of chemical herbicides in conjunction with other treatment methods.

The Final Programmatic EIS is neither a land-use plan nor a land-use plan amendment. The Final Programmatic EIS and Environmental Report will provide a comprehensive, programmatic NEPA document and environmental report that allows effective tiering and incorporation by reference, environmental effects and baseline cumulative impact assessments for other new, revised, or existing land use and activity level plans and implementation projects that involve vegetation modification or maintenance. This Final Programmatic EIS does not affect the status of the herbicide court injunction in Oregon. The analysis area includes only surface estate public lands administered by 11 BLM State offices: Alaska, Arizona, California, Colorado, Idaho, Montana (North Dakota/South Dakota), New Mexico (Oklahoma/Texas/Nebraska), Nevada, Oregon (Washington), Utah, and Wyoming.

The BLM issued a Notice of Availability of the Draft Vegetation Treatments Using Herbicides Programmatic Environmental Impact Statement and Draft Programmatic Environmental Report on November 10, 2005. The BLM held ten public hearings in late 2005, and extended the public comment period an additional 30 days to February 10, 2006.

The BLM responded to over 3,000 individual public comments during the Draft Programmatic EIS public review period. Comment responses and resultant changes in the impact analysis are documented in this Final Programmatic EIS and Environmental Report per requirements under 40 CFR 1503.4. Additional information and analysis is included in the Final Programmatic EIS addressing comments related to chemical degradates, use of surfactants and risks associated with endocrine disrupting chemicals. In addition, the Final Programmatic EIS contains subsistence analysis required under Section 801(a) of the Alaska National Interest Lands Conservation Act (ANILCA). The BLM will prepare a Record of Decision (ROD) for the EIS after July 30, 2007.

Bud Cribley,
Deputy Assistant Director, Renewable Resources and Planning.

[FR Doc. E7-12533 Filed 6-28-07; 8:45 am]

BILLING CODE 4310-84-P